DEPARTMENT OF AGRICULTURE

Rural Utilities Service

Announcement of Grant Application Deadlines and Funding Levels for the Assistance to High Energy Cost Rural Communities Grant Program

AGENCY: Rural Utilities Service, USDA.

ACTION: Notice of Solicitation of Applications (NOSA).

SUMMARY: The Rural Utilities Service (RUS), an agency of the United States Department of Agriculture (USDA), announces the availability of up to $10 million in fiscal year 2017 (FY17) and application deadlines for competitive grants to assist communities with extremely high energy costs. These grants are made available under the authority of section 19 of the Rural Electrification Act of 1936, as amended, and program regulations. The grant funds may be used to acquire, construct, extend, upgrade, or otherwise improve energy generation, transmission, or distribution facilities serving communities in which the average residential expenditure for home energy is at least 275 percent of the national average. Grants may also be used for programs that install on-grid and off-grid renewable energy systems and energy efficiency improvements in eligible communities. Grant awards are not made directly to individuals or for projects that primarily benefit a single household or business. This notice describes the eligibility and application requirements, the criteria that will be used by RUS to award funding, and how to obtain application materials.

DATES: You may submit completed grant applications on paper or electronically according to the following deadlines:

• Paper applications must be postmarked and mailed, shipped, or sent overnight, no later than December 11, 2017, or hand delivered to RUS by this deadline, to be eligible under this NOSA. Late or incomplete applications will not be eligible for FY 2017 grant funding.

• Electronic applications must be submitted through Grants.gov no later than midnight Eastern Standard Time December 11, 2017 to be eligible under this notice for FY 2017 grant funding. Late or incomplete electronic applications will not be eligible.

• Applications will not be accepted by electronic mail.

Applications will be accepted upon publication of this notice until midnight (EST) of the closing date of December 11, 2017. If the submission deadline falls on Saturday, Sunday, or a Federal holiday, the application is due the next business day.

ADDRESSES: Copies of the 2017 Application Guide, required forms and other information on the High Energy Cost Grant Program may be obtained by the following:

(1) The program Web site (http://www.rd.usda.gov/programs-services/high-energy-cost-grants) or

(2) Grants.gov (http://www.grants.gov) by searching under Opportunity Number RD-RUS-HECG17; or

(3) Contacting the RUS Electric Program at (202) 720-9452 to request paper copies of the 2017 Application Guide or other materials.

Completed applications may be submitted in the following ways:

• Paper applications are to be submitted to the Rural Utilities Service, Electric Programs, United States Department of Agriculture, 1400 Independence Avenue SW., STOP 1560, Room 5165 South Building, Washington, DC 20250-1560. Applications should be marked “Attention: High Energy Cost Grant Program.”

• Applications may be submitted electronically through Grants.gov. Information on how to submit applications electronically is available on the Grants.gov Web site (http://www.grants.gov). Applicants must successfully pre-register with Grants.gov to use the electronic applications option. Application information may be downloaded from Grants.gov without preregistration.

FOR FURTHER INFORMATION CONTACT: Robin Meigel, Finance Specialist, Rural Utilities Service, Electric Programs, United States Department of Agriculture, 1400 Independence Avenue SW., STOP 1568, Room 0270 South Building, Washington, DC 20250-1568. Telephone (202) 720-9542, Fax (202) 690-7442, email energy.grants@wdc.usda.gov.

SUPPLEMENTARY INFORMATION:

Overview

Federal Agency Name: United States Department of Agriculture, Rural Utilities Service.

Funding Opportunity Title: Assistance to High Energy Cost Rural Communities Program.

Announcement Type: Initial announcement.

Funding Opportunity Number: RD- RUS-HECG17.

Catalog of Federal Domestic Assistance (CFDA) Number: 10.859. The CFDA title for this program is “Assistance to High Energy Cost Rural Communities.”

Date: Applications must be postmarked and mailed or shipped, or hand delivered to the RUS, or filed with Grants.gov by December 11, 2017.

A. Program Description

The USDA through the Rural Utilities Service (“RUS”) provides grant assistance for energy facilities, including renewable energy systems and energy efficiency improvements, serving extremely high energy cost communities. This program is authorized by section 19 of the Rural Electrification Act of 1936, as amended (the “RE Act”) (7 U.S.C. 918a). Program regulations are found at 7 CFR part 1709.

This program was established in 2000 to provide assistance for communities most challenged by extremely high energy costs, defined by statute as average residential home energy expenditures that are 275 percent or more of the national average. This statutory threshold for eligibility is high and has the result of limiting the availability of this program to extremely high cost and typically remote areas. RUS periodically establishes eligibility benchmarks using the most recent home energy data published by the Energy Information Administration. This notice contains the latest updates to these benchmarks.

The purpose of this program is to provide financial assistance for a broad range of energy facilities, equipment and related activities to offset the impact of extremely high home energy costs on eligible communities. The grants help communities provide basic energy needs by financing energy infrastructure supporting rural prosperity and job creation. Grant funds may not be used to pay utility bills or to purchase fuel. Nor may grant funds be used for education and outreach except for training that is directly related to energy facilities financed in all or part by this program. Upgrades to existing facilities are also eligible. Grant projects under this program must serve an eligible community and not be for the primary benefit of an individual applicant, household, or business.

With publication of this notice, USDA is making available up to $10 million in new competitive grant awards under the High Energy Cost Grant Program. This notice describes eligibility and application requirements for these grants. Grants will be awarded competitively based on the selection criteria in Part E of this notice.

Priorities Under the authority of 7 CFR 1709.102(b) and 1709.123, this notice establishes several priority scoring criteria to support USDA and RUS policy objectives. Additional points will be awarded for:

• Projects that provide assistance to USDA High Poverty Areas;

• Projects that serve small rural communities;

• Projects that incorporate commercially proven waste heat recovery technology;

• Projects that result in not less than a 25% increase in energy efficiency for generation assets, this includes repowering aging diesel plant;

• Projects that address extraordinary circumstances affecting the eligible high energy cost community such as a disaster, imminent hazard, unserved areas, and other economic hardship; and

• Projects that serve Substantially Underserved Trust Areas.

More information on scoring and priorities is found in Section E of this notice.

B. Federal Award Information

The RUS Administrator has established the application and selection requirements under this notice pursuant to program regulations at 7 CFR part 1709 and Uniform Federal Grant Regulations at 2 CFR part 200. The total amount of funds available for high energy cost grants under this notice is up to $10 million. The maximum amount of grant assistance that may be requested or awarded for a grant application under this notice is $3,000,000. The minimum amount of assistance for a grant application under this program is $100,000.

Applicants must provide a complete grant application package with a narrative grant proposal prepared according to the instructions in this notice and the 2017 Application Guide, including all required forms and certifications. The 2017 Application Guide is available electronically on the program Web site (http://www.rd.usda.gov/programs-services/high-energy-cost-grants) link or through Grants.gov, or by request from the Agency contact. Applicants are advised that the application requirements in this notice and the 2017 Application Guide have been revised from those in the NOSA published October 13, 2015 (the “2015 Notice”), and the 2015 Application Guide.

No more than one award will be made per applicant or project. Applicants may submit multiple applications, provided each is for a different project, but only one award per applicant will be approved.

RUS anticipates making multiple awards under this notice. The number of grants awarded will depend on the number of complete applications submitted, the total grant funds requested, the quality and competitiveness of applications, and the availability of funds. There were nine grant awards obligated under the 2015 Notice and these awards ranged from $449,808 to $3,000,000.

The RUS reserves the right not to award all the funds made available under this notice. The final decision to make an award is at the discretion of the Administrator (7 CFR 1709.121). The Administrator will select finalists for grant awards after consideration of the applications, the rankings, comments, and recommendations of the rating panel, and other pertinent information, including availability of funds. Upon such consideration, the Administrator may elect to offer an award of less than the full amount of the grant requested by an applicant.

All awards will be made under grant agreements with terms and conditions established by RUS. Grant agreements typically provide for a period of performance of three years. Approvals of any extensions to the original grant term are at the sole discretion of the agency.

No Reconsideration of 2015 Applications

The Administrator has determined that all applicants must apply under this 2017 NOSA. There will be no reconsideration of applications submitted under the 2015 Notice. The evaluation criteria in this NOSA are sufficiently different such that applications submitted in response to the 2015 Notice would be at a disadvantage when rated among those applications prepared with the current criteria in mind.

Substantially Underserved Trust Areas (SUTA)

This program is subject to the provisions for Substantially Underserved Trust Areas of 7 U.S.C. 936f and regulations at 7 CFR part 1700, subpart D. This notice provides that five points will be added to application scores for applications from eligible underserved trust areas that have been accepted for special consideration by the Administrator. Failure to submit the separate letter and supporting material as described under Part C, Section (1)(ii) below will result in no additional points being awarded for SUTA consideration. This requirement is separate and independent of the application itself as more fully described below.

Application Review and Finalist Selections

All timely submitted and complete applications will be reviewed for eligibility and rated according to the criteria described in this notice. Applications will be ranked in order of their numerical scores and forwarded to the RUS Administrator. The RUS Administrator is the federal selection official for these competitive awards. The Administrator will review the rankings and the recommendations of the rating panel. The Administrator will then select grant finalists in rank order to the extent of available funds. A letter advising the applicant that they are a selected finalist is not a binding commitment to provide funding. A selected finalist is not an awardee until the Agency has obligated funds and the Administrator has signed the related grant agreement (date of grant award).

Environmental Review and Other Pre-Award Requirements

Projects that are selected finalists for award will be reviewed for environmental impacts and an environmental determination pursuant to the National Environmental Policy Act (NEPA) in accordance with 7 CFR part 1970.

Concurrent with this review, additional due diligence and risk management reviews will be conducted by the agency to better assure that the representations in the finalist applications have a high probability of being achieved within a reasonable timeframe. Considerations during this period may include, but are not limited to:

• The committed availability of matching contributions;

• prior performance of project principals with respect to other projects;

• the commercial acceptance of the technology to be funded; and

• the capacity of project principals to complete and operate the project.

If the outcomes of either the environmental review or the due diligence and risk management review are unsatisfactory, or it is determined that the applicant has undertaken unacceptable pre-award activities (see below), a project may be de-selected and the next highest ranked project will be considered.

Funding for Pre-Award Activities

Under 7 CFR 1709.10(a), Grant funds may not be used to pay costs of preparing the application package, or for any finders' fees or incentives for persons or entities assisting in the preparation or submission of an application.

Applicants are cautioned that they undertake any pre-award project activities at their own risk, as all finalist selections are subject to a satisfactory environmental review and determination before any award can be made. Undertaking certain project activities before the required environmental review is complete could result in a finalist being “de-selected.” (7 CFR 1709.10). Program regulations provide that RUS will not pay any project construction costs of the project incurred before the date of grant award except as provided in 7 CFR 1709.10.

C. Eligibility Information

1. Eligible Applicants

i. All Applicants

Applicant eligibility under this program is established by the RE Act (7 U.S.C. 913 and 918a), High Energy Cost Grant Program regulations at 7 CFR 1709.106, and this notice.

An eligible applicant is any one of the following:

• A legally-organized for-profit or nonprofit organization such as, but not limited to, a corporation, association, partnership (including a limited liability partnership), cooperative, or trust;

• A sole proprietorship;

• A State or local government, or any agency or instrumentality of a State or local government, including a municipal utility or public power authority;

• An Indian tribe ¹, a tribally-owned entity, and or Alaska Native Corporation;

¹ As used in the notice “Indian Tribe” or “tribal” means a Federally recognized Tribe as defined under section 4 of the Indian Self-Determination and Education Assistance Act (25 U.S.C. 450b) to include “* * * any Indian Tribe, band, nation, or other organized group or community, including any Alaska Native village or regional or village corporation as defined in or established pursuant to the Alaska Native Claims Settlement Act [43 U.S.C. 1601 et seq.], that is recognized as eligible for the special programs and services provided by the United States to Indians because of their status as Indians.”

• An individual or group of individuals applying on behalf of unincorporated community associations, and not for the primary benefit of a single household or business; or

• Any of the above entities located in a U.S. Territory or other area authorized by law to participate in programs of the Rural Utilities Service or under the REA Act.

All applicants must demonstrate the legal authority and capacity to enter into a binding grant agreement with the Federal Government at the time of the award and to carry out the proposed grant funded project according to its terms to be an eligible applicant. The application must include information and/or documentation supporting your eligibility, legal existence, and capacity to enter into a grant agreement.

Individuals are eligible grant applicants under this program. However, any proposed grant project must provide community benefits and not be for the primary benefit of an individual household. As a practical matter, because this program addresses community energy needs and in order to readily facilitate compliance with Federal grant requirements, individuals will likely find it preferable to establish an independent legal entity, such as a corporation, to actually carry out the grant project if the project is selected.

If the project proponent contemplates a structured financing such that a yet to be established project entity will be the grantee of record or the primary entity managing or providing grant services under contract to the grantee, this must be fully disclosed and explained in the original application. Grant awards are not transferable. The new entity must be in existence and legally competent to enter into a grant agreement with the Federal Government under appropriate State and Federal laws before a final grant award can be approved.

Corporations that have been convicted of a Federal felony within the past 24 months are not eligible applicants. Any corporation that has any unpaid federal tax liability that has been assessed, for which all judicial and administrative remedies have been exhausted or have lapsed, and that is not being paid in a timely manner pursuant to an agreement with the authority responsible for collecting the tax liability, is not eligible for financial assistance. All corporate applicants must complete Form AD-3030 “Representations Regarding Felony Conviction and Tax Delinquent Status for Corporate Applicants.”

In addition, under program regulations at 7 CFR 1709.7, an outstanding judgment obtained against an applicant by the United States in a Federal Court (other than in the United States Tax Court), which has been recorded, shall cause the applicant to be ineligible to receive a grant or loan under this part until the judgment is paid in full or otherwise satisfied.

Before submitting an application, all applicants must have an active registration with current information in the System for Award Management (SAM) (previously the Central Contractor Registry (CCR)) at https://www.sam.gov. A Dun and Bradstreet (D&B) Data Universal Numbering System (DUNS) number is a pre-requisite for a successful SAM registration. It is important to note that it takes time for these applications for a DUNS number and SAM registration to be processed; it is important that those considering submitting an application under this NOSA give themselves a conservative lead time (six weeks is recommended) in order to accomplish an active SAM registration by the application deadline in this NOSA. For more information on obtaining a DUNS number and SAM registration see Part D, Section 3 below.

ii. Substantially Underserved Trust Area Applicants

This notice provides priority points for complete and otherwise eligible applications from an entity that has been accepted by the Administrator as eligible for SUTA consideration pursuant to section 306F of the RE Act (7 U.S.C. 936f) and regulations concerning SUTA applications at 7 CFR part 1700, subpart D. An eligible SUTA community is located on “trust lands” (e.g., an Indian Reservation, Hawaiian Homelands, Alaska Regional or Village Corporation lands, or other lands held in trust by or subject to restrictions imposed by the United States) and “lacks an adequate level or quality of service.”

The applicant must submit a letter to the RUS Administrator that it is seeking consideration under provisions of 7 CFR part 1700, subpart D. The letter must be accompanied by a copy of the application package submitted in response to this notice. The request must include all information required by the SUTA regulations establishing that the project is for an eligible trust area, documenting its high need for High Energy Cost Grant Program funds, and identifying the discretionary authorities that it seeks to have applied to its application. More information on how to document eligibility for SUTA consideration may be found in the FY 2017 Application Guide available at https://www.rd.usda.gov/about-rd/initiatives/substantially-underserved-trust-area-suta and 7 CFR part 1700, subpart D.

The Administrator will review the request to determine whether the applicant is eligible to receive consideration under SUTA. RUS will notify the applicant in writing whether (1) the application has been accepted to receive special SUTA consideration or (2) the application has not been accepted for consideration under the SUTA regulation. If the SUTA request is not granted, the applicant may withdraw its application. If the application is still eligible without SUTA consideration and the applicant does not withdraw the application, RUS will review and score the application along with others received under this notice.

2. Cost Sharing and Matching

This grant program has no cost sharing or matching funds requirement as a condition of eligibility. However, RUS will consider other financial resources available to the grant applicant and any voluntary pledge of matching funds or other contributions in assessing the applicant's commitment and financial capacity to complete the proposed project successfully. If a successful applicant proposes to use matching funds or other cost contributions in its project, the grant agreement will include conditions requiring documentation of the availability of the matching funds and actual expenditure of matching funds or cost contributions. RUS may require the applicant to provide additional documentation confirming the availability of any matching contribution offered prior to approval of a project award. If an applicant fails to provide timely documentation of the availability of matching contributions, the RUS may, in its sole discretion, decline to award the project if uncertainties over availability of the match render the project financially unfeasible and impose additional conditions.

3. Other

i. Eligible Communities

To establish community eligibility, the application must (1) clearly identify and define the geographic area that will be included in the grant project and (2) demonstrate that each of the communities in the proposed area meets one or more of the high energy cost benchmarks identified in this Notice. The smallest area that may be designated as an area is a 2010 Census block. Projects must serve eligible communities and not be for the primary benefit of an individual or business.

Consult the program regulations at 7 CFR part 1709 and the 2017 Application Guide for definitions used in this program.

The RE Act defines an extremely high energy cost community as one in which “the average residential expenditure for home energy ² is at least 275 percent of the national average residential expenditure for home energy” 7 U.S.C. 918a.

² “Home energy” means any energy source or fuel used by a household for purposes other than transportation, including electricity, natural gas, fuel oil, kerosene, liquefied petroleum gas (propane), other petroleum products, wood and other biomass fuels, coal, wind, and solar energy. Fuels used for subsistence activities in remote rural areas are also included.

RUS periodically establishes community eligibility benchmarks based on the latest available information from the Energy Information Administration (EIA) of the U.S. Department of Energy. Home energy cost benchmarks are calculated for total annual household energy expenditures; total annual expenditures for individual fuels; annual average per unit energy costs for primary home energy sources and are set at 275 percent of the relevant national average household energy expenditures. RUS has revised the eligibility benchmarks for 2017 based on the latest EIA data. The new benchmarks are shown in Table 1.

The EIA's Residential Energy Consumption and Expenditure Surveys (RECS) and reports provide the baseline national average household energy consumption data that were used for establishing extremely high energy cost community eligibility criteria for this grant program. The RECS data base and reports provide national and regional information on residential energy use, expenditures, and housing characteristics. EIA published its latest available RECS home energy expenditure survey results in 2012. RUS used the latest EIA data on 2016 residential energy prices to estimate national average household energy costs to establish the benchmarks shown in Table 1:

Table 1—National Average Annual Household Energy Expenditures and Extremely High Energy Cost Eligibility Benchmarks Effective for Applications Submitted On or After October 12, 2017
Fuel | Estimated national annual average household expenditure ($ per year) | RUS extremely high energy cost benchmark (275% of national average) ($ per year)
Average Annual Household Expenditure
Electricity | $1,420 | $3,904
Natural Gas | 665 | 1,828
Fuel Oil | 1,056 | 2,903
LPG/Propane | 1,131 | 3,110
Total Household Energy Use | 2,017 | 5,546

Fuel (units) | 2016 national average unit cost ($ per unit) | RUS extremely high energy cost benchmark (275% of national average) ($ per unit)
Annual Average Per Unit Residential Energy Costs
Electricity (Kilowatt hours) | $0.126 | $0.345
Natural Gas (thousand cubic feet) | 10.07 | 27.69
Fuel Oil (gallons) | 2.27 | 6.25
LPG/Propane (gallons) | 2.05 | 5.64
Sources: RUS estimates based on latest data from: Energy Information Administration, United States Department of Energy, 2009 Residential Energy Consumption Survey Data—Detailed Tables, available at: http://www.eia.gov/consumption/residential/data/2009/; Average residential energy prices from EIA Monthly Energy Review, available at https://www.eia.gov/totalenergy/data/monthly/; EIA Weekly Heating Oil and Propane Prices available at https://www.eia.gov/dnav/pet/pet_pri_wfr_dcus_nus_w.htm and EIA Winter Fuels Outlook 2016 available at https://www.eia.gov/outlooks/steo/special/winter/2016_winter_fuels.pdf.

Extremely high energy costs in rural and remote communities typically result from a combination of factors including high energy consumption, high per unit energy costs, limited availability of energy sources, extreme climate conditions, and housing characteristics. There is diversity in how and the degree to which these factors affect a given community.

a. High Energy Cost Benchmarks

The benchmarks discussed below are used to establish threshold energy costs which are a fundamental threshold for determining community eligibility. These benchmarks were calculated by RUS using EIA's latest estimates of national average residential energy consumption and energy prices. The benchmarks recognize the diverse factors that contribute to extremely high home energy costs in rural communities. In some cases there may be limited available published data on local community energy consumption and expenditures. High energy cost communities may demonstrate their eligibility by using one or more benchmarks. A choice of benchmarks is allowed so as to reduce the burden on potential applicants in meeting this requirement for quantifying the high cost of energy in their area.

Communities may qualify based on total annual household energy expenditures; total annual expenditures for commercially-supplied primary home energy sources, i.e., electricity, natural gas, oil, or propane; or average annual per unit home energy costs.

A community or area will qualify as an extremely high cost energy community if it meets one or more of the energy cost eligibility benchmarks described below.

I. Extremely High Average Annual Household Expenditure for Home Energy

The area or community exceeds one or more of the following:

• Average annual residential electricity expenditure of $3,904 per household;

• Average annual residential natural gas expenditure of $1,828 per household;

• Average annual residential expenditure on fuel oil of $2,903 per household;

• Average annual residential expenditure on propane or liquefied petroleum gas (LPG) as a primary home energy source of $3,110 per household; or

• Average annual residential energy expenditure (for all non-transportation uses) of $5,546 per household.

II. Extremely High Average per Unit Energy Costs

The average residential per unit cost for major commercial energy sources in the area or community exceeds one or more of the following:

• Annual average cost per kilowatt hour for residential electricity customers of $0.345 per kilowatt hour (kWh);

• Annual average residential natural gas price of $27.69 per thousand cubic feet;

• Annual average residential fuel oil price of $6.25 per gallon;

• Annual average residential price of propane or LPG as a primary home energy source of $5.64 per gallon; or

• Total annual average residential energy cost on a Btu basis of $61.87 per million Btu.³

³ Note: Btu is the abbreviation for British thermal unit, a standard energy measure. A Btu is the quantity of heat needed to raise the temperature of one pound of water 1 degree Fahrenheit at or near 39.2 degrees Fahrenheit.

b. Supporting Energy Cost Data

Benchmark data for each community in the designated area must be submitted in support of their eligibility under this program. The source(s) for this data must be identified or referenced so as to allow RUS to verify these representations in the application. Grant applicants are expected to provide supporting information sourced in the local community, or specific to that community, to support their applications.

Generally, the applicant will be expected to use historical residential energy cost or expenditure information for the local energy provider serving the community or area to determine eligibility. Other potential sources of home energy related information include Federal and State agencies, local community energy providers such as electric and natural gas utilities and fuel dealers, and commercial publications. The 2017 Application Guide includes a list of EIA resources on residential energy consumption and costs that may be of assistance.

Where information is unavailable or does not adequately reflect the actual costs for average home energy use in a local community, RUS will consider estimated commercial energy costs. The 2017 Application Guide includes examples of circumstances where estimated energy costs are used.

In many instances, historical community energy cost information can be obtained from a variety of public sources or from local utilities and other energy providers. For example, EIA publishes monthly and annual reports of residential prices by state and by service area for electric utilities and larger natural gas distribution companies. Average residential fuel oil and propane prices are reported regionally and for major cities by government and private publications. Many state agencies also compile and publish information on residential energy costs to support state programs.

c. Use of Estimated Home Energy Costs

An applicant may substitute estimates of home energy costs based on engineering standards where historical community energy cost data are incomplete or lacking or where community-wide data does not accurately reflect the costs of providing home energy services in the area, the applicant may substitute estimates based on engineering standards. The estimates should use available community, local, or regional data on energy expenditures, consumption, housing characteristics and population. Estimates are also appropriate where the area does not presently have centralized commercial energy services at a level that is comparable to other residential customers in the State or region. For example, local commercial energy cost information may not be available where the area is off grid because of the high costs of connection. Engineering cost estimates reflecting the incremental costs of extending service could reasonably be used to establish eligibility for areas without grid-connected electric service. Estimates also may be appropriate where historical energy costs do not reflect the cost of providing a necessary upgrade or replacement of energy infrastructure to maintain or extend service that would raise costs above one or more benchmarks. Information supporting high energy cost eligibility is subject to independent review by RUS.

Applications that contain information not reasonably based on credible sources of information and sound estimates will be rejected. Where appropriate, RUS may consult standard sources to confirm the reasonableness of information and estimates provided by an applicant in determining eligibility, technical feasibility, and adequacy of proposed budget estimates.

ii. Eligible Projects

Eligible projects must serve an eligible community and must include only eligible grant purposes. The project must serve communities that meet the extremely high energy cost eligibility requirements described in this notice. The applicant must demonstrate that the proposed project will benefit the eligible communities. Projects that primarily benefit a single household or business are not eligible. Additional information and examples of eligible project activities are contained in the Application Guide available at https://www.rd.usda.gov/programs-services/high-energy-cost-grants.

iii. Eligible Activities

Grant funds may be used to acquire, construct, extend, upgrade, or otherwise improve energy generation, transmission, or distribution facilities serving eligible communities. All energy generation, transmission, and distribution facilities and equipment, used to provide electricity, natural gas, home heating fuels, and other energy service to eligible communities are eligible. Projects providing or improving energy services to eligible communities through on-grid and off-grid renewable energy projects, energy efficiency, and energy conservation projects are eligible. A grant project is eligible if it improves, or maintains energy services, or reduces the costs of providing energy services to eligible communities.

Funds may cover up to the full costs of any eligible projects subject to the statutory limitation that no more than 4 percent of grant funds may be used for the planning and administrative expenses of the grantee. Because of this limitation, applicants must detail any indirect costs.

The program regulations at 7 CFR part 1709 provide more detail on allowable use of grant funds, limitations on grant funds, and ineligible grant purposes. Grant funds may not be used to refinance or repay the applicant's outstanding loans or loan guarantees under the RE Act.

In general, grant funds may not be used to support projects that primarily benefit areas outside of eligible communities. However, grant funds may be used to finance an eligible community's proportionate share of a larger energy project.

Consistent with USDA policy and program regulations, grant funds awarded under this program generally cannot be used to replace other USDA assistance or to refinance or repay outstanding loans under the RE Act. Grant funds may, however, be used in combination with other USDA assistance programs including electric loans. Grants may be applied toward grantee contributions under other USDA programs depending on the specific terms of those programs. For example, an applicant may propose to use grant funds to offset the costs of electric system improvements in extremely high cost areas by increasing the utility's contribution for line extensions or system expansions to its distribution system financed in whole or part by an electric loan under the RE Act. An applicant may propose to finance a portion of an energy project for an extremely high energy cost community through this grant program and secure the remaining project costs through a loan or loan guarantee from RUS or other grant sources. The determination of whether a project will be completed in this manner will be made solely by the Administrator.

iv. Eligible Technologies

Grant funds under this program may only be used for projects using proven and commercially available technology. Activities or equipment that would commonly be considered as research, development, or demonstration, or commercialization activities are not eligible. RUS, in its sole discretion, will determine if a project consists of ineligible research, development, demonstration, or commercialization activities or relies on unproven technology, and that determination shall be final.

v. Limitations on Grant Awards

a. Statutory Limitation on Planning and Administrative Expenses

Section 19(b)(2) of the RE Act provides that no more than 4 percent of the grant funds for any project may be used for planning and administrative expenses of the grantee not directly related to delivery of the project. RUS will not make awards for any such expenses exceeding 4 percent of grant funds. Because of this limitation, applicants must detail any indirect costs.

b. Maximum and Minimum Awards

For High Energy Cost Grants, the maximum amount of grant assistance that will be considered for funding per grant application under this notice is $3,000,000. The minimum amount of assistance for a competitive grant application under this program is $100,000.

c. Multiple Applications

Eligible applicants must include only one project per application, but the project can include many locations. Applicants may submit applications for multiple projects. An applicant will only be awarded funding for one project under this notice. The award will be made to the highest ranked application submitted; other applications from the same applicant or project will remain unfunded under this notice.

d. Ineligible Grant Purposes for High Energy Cost Grants

Grant funds cannot be used for: Preparation of the grant application, fuel purchases, routine maintenance or other operating costs, and purchase of equipment, structures, or real estate not directly associated with provision of residential energy services. Program regulations at 7 CFR part 1709 have additional information on eligible uses of grant funds.

e. Pre-Award Activities During Environmental Review

RUS may refuse to provide an award where the selected applicant has taken actions in violation of restrictions on certain project activities prior to completion of pre-award environmental review. See Part F, Section 2(i) of this Notice and 7 CFR 1970.12.

f. Consideration of Prior Performance

RUS may consider prior performance of an applicant under any other USDA grant in deciding whether an application will be reviewed and scored under this NOSA. Where the track record of an applicant (or principals of an applicant) reflects inadequate performance as a historical matter, RUS may decide to not consider and score additional applications from the same party. Inadequate performance may consist of a disallowance that was never recovered by the Government, failure to complete a project, failure to respond to USDA's request for information relating to a project, or suspension or termination of a grant project for material failures to comply with the terms and conditions of the grant award.

D. Application and Submission Information

All applications must be prepared and submitted in compliance with this notice and the 2017 Application Guide. The 2017 Application Guide contains additional information on the grant programs, sources of information for use in preparing applications, examples of eligible projects, and copies of the required application forms.

1. Address To Request Application Package

The 2017 Application Guide, copies of required forms, and other information on the High Energy Cost Grant Program are available from these sources:

i. Via the Internet at the program Web site (http://www.rd.usda.gov/programs-services/high-energy-cost-grants);

ii. via Grants.gov http://www.grants.gov (under CFDA No. 10.859); and

iii. by request from Robin Meigel, Finance Specialist, Rural Utilities Service, Electric Program, United States Department of Agriculture, 1400 Independence Avenue SW., STOP 1568, Room 0270 South Building, Washington, DC 20250-1568, or 202-720-9452, or email Energy.Grants@wdc.usda.gov.

2. Content and Form of Application Submission

Applicants must follow the directions in this notice and the 2017 Application Guide in preparing and submitting their application packages.

i. Pre-Applications

This program does not require or accept pre-applications.

ii. The Application as a Whole

Application packages must be prepared consistent with the requirements of this notice, the 2017 Application Guide and program regulations at 7 CFR 1709.117. Applicants are encouraged to consult the Uniform Administrative Requirements, Cost Principles, and Audit Requirements for Federal Awards (2 CFR part 200) for additional requirements applicable to grants under this program. Application packages that do not comply with the eligibility and content provisions of this notice will be rejected. As used in this notice “narrative” means a written statement, description, or other written material prepared by the applicant, for which no form exists.

Format. The completed application should be assembled in the order specified in this Part D, Section 2(iii) below with all pages numbered sequentially or by section. Application sections and attachments should be formatted for 8½ by 11 inch paper (letter size) with 1 inch margins. Preferred type faces are Times New Roman 12, Calibri 11, Arial 11, Verdana 10 or Courier 10. Narratives may be single or double spaced. It is strongly recommended that Project Narratives be no longer than about 30 pages in length (exclusive of required forms and Project Summary) with not more than 10 pages of attachments. Paper application packages will be scanned; they should be printed single-sided on white letter size paper. Electronic applications must follow formatting directions, including acceptable file attachment types, specified on Grants.gov. Failure to follow these instructions may result in rejection of the application.

Number of copies. A complete paper application submission package consists of one original application with original signatures on all forms and certifications and two copies.

iii. Component Parts of the Application

The completed application consists of the following sections and forms. Narrative sections should be formatted as indicated above and assembled in the sequence specified. Table 2 lists the required content and form of a complete application. Applicants may use this table to assure that their applications are complete and assembled in order:

Table 2—Required Content and Form of Application Package
[Component pieces of the application]
[Complete applications must include all listed sections, forms, and certifications in the order shown in this table]
Part A. Completed Form SF-424 “Application for Federal Assistance”
Part B. Project Summary and Eligibility Statement (up to 3 pages total)
Part C. Project Narrative Proposal
I. Table of Contents
II. Executive Summary (1 page)
III. Project Description (up to 30 pages)
A. Community Eligibility and Assessment of Community Needs
B. Project Design, Technical Feasibility and Responsiveness to Community Needs
C. Applicant Organization and Eligibility
D. Organizational Capabilities and Project Management Plan
E. Organizational Experience
F. Key Staff Experience
G. Project Goals, Objectives and Performance Measures
H. Project Reporting Plan
I. Project Budget and Financial Capability
J. Rural Economic Development Initiatives
K. Priority Considerations
Part D. Additional Required Forms and Certifications
• Form SF-424B, “Assurances—Non-Construction Programs” or Form SF-424D, “Assurances—Construction Programs”
• Form SF-LLL, “Disclosure of Lobbying Activities”
• Evidence of Active and Unexpired SAM Registration with https://www.sam.gov
• Rural Utilities Service “Certification Regarding Debarment, Suspension and Other Responsibility Matter—Primary Covered Transactions”
• RUS Environmental Questionnaire
Part E. Supplementary Materials (up to 10 pages)

a. Application Part A—Completed Form SF-424, “Application for Federal Assistance”

This form must be signed by a person authorized to submit the proposal on behalf of the applicant. Note: All applicants, except individuals, must include a DUNS number on the SF-424 to be considered complete. See Section 3 below in this Part D for information on obtaining a DUNS Number. Copies of this form are available through the RUS's Web site (http://www.rd.usda.gov/programs-services/high-energy-cost-grants) or through Grants.gov, or by request from the Agency contact listed in Section 1 of this Part D above.

b. Application Part B—Project Summary and Eligibility Statement

The Project Summary and Eligibility Statement is a short narrative that establishes the application's eligibility. It describes the applicant, the eligible high energy cost community, the proposed project, and all requested priority considerations. The Project Summary should be no longer than three (3) pages.

This summary will be used by RUS for initial screening purposes only to make an initial determination of eligibility without reference to other sections of the application. After review of this Part B, RUS will decide whether to accept the application for further review and scoring. Application packages that do not meet eligibility requirements will be rejected.

Part B will not be referred to for purposes of scoring the application. All information relating to eligibility and scoring must be included in the full project narrative proposal more fully discussed below.

In Part B applicants must provide a brief summary of the project proposal. The project must be described in sufficient detail to establish that it is an eligible project under the program regulations (7 CFR part 1709) and this notice. Applicants should take great care in preparing this Part B summary to include all necessary elements relating to eligibility.

Part B of the Application must include the following information.

I. Applicant Eligibility

This section of Part B must briefly describe the applicant, its capabilities, and provide information demonstrating that the applicant is an eligible entity under program regulations at 7 CFR 1709.106 and this notice. Part B must also state that the applicant is free of any debarment or other restriction on their ability to contract with the Federal government as identified in Part C, Section 1(i) of this notice and must also state that the applicant has an active and unexpired registration with www.sam.gov.

II. Community Eligibility

This summary must describe the eligible community or communities to be served by the project including name, location, and population based on 2010 Census. Also required is the name and population of the local government division (e.g., city, town or county for unincorporated areas) where the project is located. The Part B Summary must specifically identify the average community residential energy costs that exceed one or more of the benchmark criteria for extremely high energy costs as described in this notice. Local energy providers and sources of high energy cost data and estimates should be clearly identified. The 2017 Application Guide includes additional information and sources that the applicant may find useful in establishing community eligibility.

III. Project Eligibility

Provide a brief overview of the project including the project title, total project costs, the amount of grant funds requested, amount and source of matching contributions, major project goals and tasks, and the location of project activities and facilities to be supported with grant funds. It must state how the grant project will provide benefits to the eligible community and offset or reduce the target community's extremely high energy costs. The summary should briefly identify any state or tribal rural development initiative that the project supports.

IV. Priority Considerations

List all Priority Considerations for which the Applicant is seeking additional points in project scoring. Priority points to be awarded under this notice are set forth in Part E, Section 1 of this notice. Further discussion of Priority Considerations should be reserved for Application Part C—Proposed Project Narrative.

V. Contact Information

The project summary should list the Applicant's name, address, telephone number, fax, and email address and contact person for the application. Include the contact person's address, telephone number, fax and email address if different from the applicant.

c. Application Part C—Proposed Project Narrative

The proposed project narrative describes in detail the proposed grant project, the project benefits, and the proposed budget. Part C follows sequentially after Parts A and B in assembling the package and contents should be assembled and paginated in the order described below.

In preparing the proposed project narrative, Applicants must address individually and in narrative form each of the proposal evaluation and selection criteria contained in Part E, Section 1 of this notice. The project narrative will be scored competitively and the results used to rank applications for finalist selections.

The narrative proposal should be formatted according to the instructions in Part D, Section 2(ii) of this notice. Applicants are strongly encouraged to keep the narrative proposal to no longer than approximately 30 pages, exclusive of required forms. Successful application narratives have been shorter in length. Applicants may use the Supplementary Materials section to include up to ten (10) pages of letters of support and other information for reviewers. Letters from Members of Congress and senior State government officials will not count against this page limit.

The project narrative proposal includes the following sections assembled in the order indicated.

I. Table of Contents

Part C of the application package must include a Table of Contents immediately before the Executive Summary. The Table of Contents must provide page numbers for all sections, forms, and supplemental materials. The Table of Contents will help reviewers assure that all submitted materials are included in the application package and in correct, intended order. This section will not be scored or counted against proscribed page limits.

II. Executive Summary

The Executive Summary is a one page introduction to the project that briefly identifies the applicant, project title, amount of grant funds requested, eligible communities, the activities and facilities to be supported, and how the grant project will benefit the community and offset or reduce the community's extremely high energy costs. Any priority considerations requested should be listed. The Executive Summary will be used by RUS to prepare project descriptions in press releases or other announcements and it should list a key contact person for the application with telephone and fax numbers, mailing address and email address. The Executive Summary is a required component of the application (7 CFR 1709.117(b)(1)), but will not be scored. The Executive Summary immediately follows the Table of Contents.

III. Project Description

The narrative project description should be no longer than 30 pages in total and should be prepared using the formatting instructions above in this Part D, Section 2(ii).

A. Community Eligibility and Assessment of Community Needs

Identify the area to be served by the project and the community or communities within the identified area that will benefit from the project. Identify the local government division that administers each community as well as the community population. Identify the location of the proposed project. Show that the proposed project's beneficiaries are communities where the average annual residential energy costs exceed one or more of the benchmark criteria for extremely high energy costs as described in Part C, Section 3(i) and Table 1 of this notice. Local energy providers and sources of high energy cost data and estimates must be clearly identified. Neither the applicant nor the project are required to be physically located in the extremely high energy cost community, but the funded project must serve an eligible community.

The population estimates should be based on the 2010 Census available from the U.S. Census Bureau. Additional information and exhibits supporting eligibility and community energy sources may be obtained from the U.S. Census, the Energy Information Administration, other Federal and State agencies, or private sources. The 2017 Application Guide provides additional information and sources that are useful in establishing community eligibility.

Identify and analyze the major energy challenges that the eligible community faces and how their extremely high energy costs impair their ability to meet these needs or adversely affect other aspects of community wellbeing. The applicant may, for example, describe how socioeconomic, environmental, or public policy considerations may affect the community's ability to meet its energy needs or influence the choices that they may make.

Address any community characteristics or extraordinary conditions that reviewers should consider in weighing the need for assistance. In particular, the narrative should address any circumstances that may qualify the application for one or more of the priority scoring considerations established in Part E of this notice. Priority considerations include high poverty areas, rurality, extraordinary conditions or circumstances, and whether a request for SUTA consideration conforming to the requirements of this notice has been accepted.

B. Project Design, Technical Feasibility and Responsiveness to Community Needs

The project description narrative must describe the proposed project in sufficient detail to establish that it is an eligible project under program regulations at 7 CFR 1709.109-111, and the Uniform Administrative Requirements, Cost Principles, and Audit Requirements for Federal Awards at 2 CFR part 200, and this notice.

The applicant must describe the project design, construction, materials, equipment, and associated activities in sufficient detail to support a conclusion by reviewers of the project's eligibility and technical feasibility as required by program regulations (7 CFR part 1709) and this notice. Proposed projects involving construction, repair, replacement, or improvement of electric generation, transmission, and distribution facilities must generally be consistent with the standards and requirements for projects financed with loans and loan guarantees under the RE Act as set forth in RUS's Electric Programs Regulations and Bulletins and may reference these requirements.

The Applicant's proposed scope of work must include major tasks to be performed, any services to be provided directly to beneficiaries, a proposed timeline for completing each task, and an estimate of the overall project duration.

In describing the project plan and schedule, applicants must specifically identify any regulatory and other approvals required by Federal, State, local, or tribal agencies, or by private entities (as a condition of financing), that are necessary to carry out the proposed grant project. Failure to list required permits and approvals may lead to the conclusion by the reviewers that the project proponent does not have sufficient expertise to develop the project. The applicant must provide an estimated schedule for obtaining the necessary approvals.

It is essential that the applicant describe and quantify how the proposed grant project is responsive to the community challenges or needs described in the preceding section of the application.

C. Applicant Organization and Eligibility

In this section the applicant must describe its organizational structure and capacity to carry out the project. The applicant must establish that is an eligible applicant under this program as provided in Part C, Section 1(i) above. Additionally, the Applicant must confirm that it and the project are located in the United States, its territories, or an eligible insular area.

This section of the application is expected to include a description of the applicant entity's ownership, as applicable, when it was established, where it operates, its sources of funding, whether it is regulated, and in addressing the organizational structure, identify all subsidiaries, affiliates, or parent entities. Describe the financial management system that will be used for grant activities. Provide evidence that the applicant has or will have the legal authority to enter into a financial assistance relationship with the Federal Government. Examples of supporting evidence of applicant's legal existence and eligibility include: A reference to or copy of the relevant statute, regulation, executive order, or legal opinion authorizing a State, local, or tribal government program, articles of incorporation or certificates of incorporation or good standing for corporate applicants, partnership or trust agreements, and board resolutions. (These documents will not be counted towards any page limitation and should be included at the end of the Application Package with Supplementary Materials.) Applicants must also represent that they are free of any debarment or other restriction on their ability to contract with the Federal Government or receive a federal grant.

D. Organizational Capabilities and Project Management Plan

Provide a narrative describing the applicant's plan for implementing the proposed project. Describe the organization's organizational structure, method of funding and the expertise on the payroll that is relevant to the project. Describe how and by whom the project will be managed during construction and all phases of operation. The availability of financial statements and other supporting documentation about applicant financial and legal capacity to carry out the project can be referenced here. Identify key staff that will be responsible for managing the grant project and indicate whether outside consultants or contractors will be used and for what purposes. Describe the capabilities of outside consultants or contractors that will have a primary role in executing the grant project.

If the applicant proposes to use equipment or design, construction or other services from non-affiliated entities, the application must describe how it plans to contract for such equipment or services.

Describe the identities, relationship, qualifications, and experience of these affiliated and contracted entities. The experience and capabilities of these affiliated and/or contracted entities will be reviewed by the rating panel. Indicate whether a force account method ⁴ to deliver the project is planned, an owner furnished materials + contractor method,⁵ or another arrangement for accomplishing the project is planned.

⁴ Force Account: The owner hires temporary employees to construct the project. Skilled laborers are often brought in from around the state and others are hired locally. An outside engineering firm is often involved in project management, construction and grant management.

⁵ Owner furnished materials + contractor method: The Owner purchases materials and bids out all construction to a contractor.

Applicants are encouraged to review the financial management requirements for Federal grantees in 7 CFR part 1709 and government-wide financial assistance regulations at 2 CFR part 200, and to address their ability to comply with these requirements in their applications.

Overall, this section should provide information that will support a finding that the overall combination of management experience, financial management capabilities, resources and project structure will enable successful completion of the project.

E. Organizational Experience

This subsection should include a detailed description of the applicant's relevant prior experience and that of any other organization that will carry out the proposed project. Information should be included on past projects, success rates, long-term results, and community and individual consumer benefits. If the applicant has received any prior High Energy Cost Grants or other Federal funding, a detailed description of these awards and past performance is required in this section.

F. Key Staff Experience

Key managers and staff for the project are to be identified above in the application component that addresses the implementation plan (above). In this section, provide more detail on their qualifications and experience relating to the work they are intended to perform for the project. If the applicant has identified affiliated entities, contractors, or subcontractors to provide services under the grant, in this section the applicant must describe the identities, relationship, qualifications, and experience of these affiliated entities, contractors or subcontractors. The rating panel will consider the experience and capabilities of these entities in scoring the proposal. If the application is selected for funding, key personnel provisions may be included in the grant agreement as a condition of the award.

G. Project Goals, Objectives and Performance Measures

Federal grant regulations provide that each grant award must include establishment of performance goals defined as “a target level of performance expressed as a tangible, measurable objective, against which actual achievement can be compared” (2 CFR 200.76. See also 2 CFR 200.301, and § 200.308 and 7 CFR 1709.117.)

Identify and quantify appropriate measures of project performance and success for this project. These proposed performance measures should relate to representations in Section B of the application that describe how the project will meet the needs identified for the community and they should be quantified. Target performance results for these benefits may include, for example, quantified expected reductions in home or community energy costs, the amount by which cost increases otherwise projected will be avoided, a quantified projection of enhanced reliability, or economic or social benefits from improvements in energy services available to the community. Include documentation or references to support the quantified amounts for projected project benefits.

H. Project Reporting Plan

Provide a progress reporting plan that describes how the effectiveness of the project in delivering its projected benefits will be monitored and measured periodically and once it is complete. This plan should specify who will be doing the monitoring and to whom the results will be reported. RUS will use these proposed performance measures and reporting plans to establish the performance measures incorporated in the grant agreement in the event the proposal is selected for an award. These suggested performance criteria are not binding on the Agency.

I. Project Budget and Financial Capability

In this subsection the applicant must present its proposed project budget for the expected life of the project and also provide information about its own financial capability to support the project and manage it in compliance with requirements for federal assistance.

The budget narrative must provide a detailed breakdown of all estimated costs and allocate these costs among the listed tasks in the work plan. The narrative and budget exhibits and forms must itemize and explain major proposed project cost components such as, but not limited to, the expected costs of design and engineering and other professional services, personnel costs (salaries/wages and fringe benefits), equipment, materials, property acquisition, travel (if any), and other direct costs, and proposed recovery of indirect costs, if any. The budget must document that planned administrative and other expenses of the project sponsor that are not directly related to performance of the grant will not total more than 4 percent of grant funds.

The applicant must explain the basis for any cost estimates. A pro forma operating budget for the three years of operations must be included as an exhibit in this section. The applicant must clearly identify the source and amount of any other Federal or non-Federal contributions of funds or services that will be used to support the proposed project, including any program income.

The detailed budget narrative must be accompanied by SF-424A, “Budget Information—Non-Construction Programs,” or SF-424C “Budget Information—Construction Programs,” as applicable. All applicants that submit applications through Grants.gov must use SF-424A. Consistent with the requirements of 2 CFR 200.205, the RUS must review the financial risk posed by applicants. In support of this review, applicants must provide additional narrative regarding the financial capability of their organization including, for example:

1. Financial stability

2. Quality of management systems and ability to meet the management standards prescribed under Federal grant regulations in 2 CFR part 200;

3. History of performance in managing any other Federal awards, including timeliness of compliance with applicable reporting requirements, conformance to the terms and conditions of previous Federal awards, and if applicable, the extent to which any previously awarded amounts will be expended prior to future awards;

4. Reports and findings from audits performed for other Federal assistance under 2 CFR part 200, subpart F—Audit Requirements or the reports and findings of any other available audits; and/or

5. Any contracts with certain parties that are debarred, suspended or otherwise excluded from or ineligible for participation in Federal programs or activities.

Applicants may cross reference relevant discussions elsewhere in the application in support of their financial stability and financial management capability.

J. Rural Economic Development Initiatives

The applicant must address how the project will support rural economic development in the target area. The narrative must describe whether and how the proposed project will support any rural economic development initiatives funded by or carried out in cooperation with a State or local agency, or an Indian Tribe as required by 7 CFR 1709.117(b)(11). If it is represented that the project supports a rural development initiative, the application should include confirming documentation from the appropriate rural development agency. The application must identify the extent to which its proposed project performance is dependent upon or tied to other rural development initiatives, funding, or approvals. If the project is independent of and not coordinated with a state or tribal rural development initiative, the applicant should clearly indicate this. Project narratives that do not address this requirement will receive zero points under this evaluation criterion.

K. Priority Considerations

The Administrator has approved the certain priority considerations in scoring and ranking applications consistent with program regulations at 7 CFR 1709.123. These priority scoring considerations and points to be awarded are described in Part E of this notice. In order to assure that applicants receive all of the priority points for which they are eligible, this section should identify each priority consideration that the applicant is requesting and (with the exception of SUTA) provide a brief statement of the circumstances that make them eligible for the priority criterion. Applicants may cross reference more detailed information elsewhere in the application package. Applicants should carefully read Part E on scoring priority considerations before writing this section. Priority points will be awarded for the following:

• Projects that provide assistance to USDA High Poverty Areas

• Projects that serve small rural communities

• Projects that incorporate commercially proven waste heat recovery technology

• Projects that result in not less than a 25% increase in energy efficiency for generation assets; this includes repowering aging diesel plant

• Projects that address extraordinary circumstances affecting the eligible high energy cost community such as a disaster, imminent hazard, unserved areas, and other economic hardship

• Projects that serve Substantially Underserved Trust Areas (Identifying this requested priority in the application is not sufficient in itself to receive SUTA priority points. A separate letter request as described in Part C, section (1)(ii) of this notice is a prerequisite for receiving SUTA priority points.).

d. Application Part D—Additional Required Forms and Certifications

The following forms and certifications must be executed and included as part of the application:

• SF 424B, “Assurances—Non-Construction Programs” or SF 424D, “Assurances—Construction Programs” (as applicable). All applicants applying through Grants.gov must use form SF 424B.

• SF LLL, “Disclosure of Lobbying Activities.” All applicants must file this disclosure form (2 CFR 418.110). The applicant should complete name and address information. If no expenditure indicate $0, “none,” or “not applicable” in the reporting section.

• Form AD-3030 “Representations Regarding Felony Conviction and Tax Delinquent Status for Corporate Applicants” (for corporate applicants only).

• Rural Utilities Service “Certification Regarding Debarment, Suspension and Other Responsibility Matter—Primary Covered Transactions.”

• High Energy Cost Grant Program Environmental Questionnaire. This RUS environmental questionnaire solicits information about project characteristics and site-specific conditions that may involve environmental, historic preservation, and other resources. The information will be used by RUS's environmental staff to determine what, if any, additional environmental impact analyses may be necessary before a final grant award may be approved. A copy of the environmental questionnaire and instructions for completion are included in the Application Guide and may be downloaded from RUS's Web site or under funding opportunity announcement RD-RUS-HECG17 at Grants.gov.

e. Application—Supplementary Materials (Not To Exceed 10 Pages)

Applicants may include additional information for reviewers such as letters of support and any other supplementary materials not included as exhibits in the project narrative that support eligibility, or priority considerations. Letters from Congress and senior State Officials will not be counted against any page limitations.

f. SUTA Consideration Requests

Application formatting and content requirements for entities that have requested SUTA consideration are identical to those for other applicants. The letter request and supporting materials for SUTA consideration are submitted separately from the application package to be reviewed by the rating panel under this notice. Other than listing SUTA consideration as a line item in the list of requested priority points in the grant application, there is no provision for a duplicate discussion of the merits of SUTA eligibility in the required content and form of the application package under this notice. See discussion of SUTA above in Part C, Section (1)(ii) above and SUTA regulations at 7 CFR 1700.108 for additional information on what is required in the separate SUTA request.

g. Number of Copies of Submitted Applications

Paper application packages submitted to RUS must include the original signed application and two (2) copies.

Only one electronic grant application submission through the Grants.gov Web site is required.

iv. Information That Successful Applicants Must Submit After Notification That They Are a Selected Finalist for a Federal Award

In addition to the information required to be submitted in the application package, RUS may request that applicants who are selected as finalists for an award provide additional information, analyses, forms and certifications before the grant agreement is signed and funds are obligated. These may include additional information and analyses for any environmental reviews and clearances under the National Environmental Policy Act (NEPA) (42 U.S.C. 4321-4370h), other statutes, and USDA regulations. As discussed earlier, the agency will conduct due diligence and risk management reviews with respect to the selected finalists and additional inquiry on the part of the agency may be associated with this activity. The successful applicant may also be required to submit additional certifications required under USDA and Government-wide assistance regulations. RUS will advise the applicant in writing of any additional information required.

3. Dun and Bradstreet Universal Numbering System (DUNS) Number and System for Award Management (SAM)

The applicant for a grant must supply a Dun and Bradstreet Data Universal Numbering System (DUNS) number as part of an application. The Standard Form 424 (SF-424) contains a field for the DUNS number. The applicant can obtain a DUNS number free of charge by calling Dun and Bradstreet. Please see http://fedgov.dnb.com/webform for more information on how to obtain a DUNS number or how to verify your organization's number.

Before submitting an application, the applicant must register in the System for Award Management (SAM) (formerly Central Contractor Registry, (CCR)). Applicants must register for the SAM at https://www.sam.gov. SAM registration must remain active with current information at all times while RUS is considering an application or while a Federal grant award is active. To maintain a SAM registration the applicant must review and update the information in the SAM database annually from the date of initial registration or from the date of the last update. The applicant must ensure that the information in the database is current, accurate, and complete.

4. How To Submit—Submission Dates and Times

Applicants may submit applications on paper directly to the Agency or electronically through Grants.gov.

• Paper grant applications and SUTA consideration requests must be postmarked and mailed, shipped, or sent overnight to the address provided at the top of this notice under ADDRESSES no later than the deadline published at the top of this notice under DATES to be eligible for FY 2017 grant funding. RUS will begin accepting applications on the date of publication of this notice. RUS will accept for review all applications postmarked or delivered to it by this deadline. Applications should be marked “Attention: High Energy Cost Grant Program.”

For the purposes of determining the timeliness of an application RUS will accept the following as valid postmarks: The date stamped by the United States Postal Service on the outside of the package containing the application delivered by U.S. Mail; the date the package was received by a commercial delivery service as evidenced by the delivery label; the date received via hand delivery to RUS headquarters. Late applications will not be considered and will be rejected.

RUS will not provide notifications acknowledging receipt of paper applications. Applicants should retain proof of mailing or shipping.

Applicants are advised that regular mail deliveries to Federal Agencies, especially of oversized packages and envelopes, are frequently delayed by increased security screening requirements that include irradiation which may damage contents. Applicants may wish to consider using Express Mail or a commercial overnight delivery service instead of regular mail. Applicants wishing to hand deliver or use courier services for delivery should contact an RUS representative in advance to arrange for building access. If an applicant wishes to submit such materials, they should contact an RUS representative for additional information.

• Electronic grant applications must be filed with www.grants.gov on or before the deadline published at the top of this notice under DATES to be eligible for FY 2017 funding. RUS will review electronic applications and use the date and time an electronic application was posted for submission to Grants.gov to determine timeliness. Applications received by Grants.gov after the deadline will not be eligible for FY 2017 grant funding and will be rejected.

Applicants are encouraged to file electronic applications in advance of the deadline. Applicants encountering difficulty filing applications electronically must contact Grants.gov for assistance.

Grants.gov will generate a receipt for application filing and for transmittal to USDA. RUS will not issue a separate acknowledgement of receipt. Acceptance of an application by Grants.gov does not constitute acceptance as an eligible and complete application by RUS.

• If the submission deadline falls on Saturday, Sunday, or a Federal holiday, the application is due the next business day.

5. Intergovernmental Review

The High Energy Cost Grant Program is not subject to Executive Order 12372, “Intergovernmental Review of Federal Programs” as implemented by USDA in 2 CFR part 415. Applications do not have to be submitted to any State agencies for review before submittal.

6. Funding Restrictions

High Energy Cost Grant program funds are subject to certain limitations established by Federal statutes, regulations, and policies. These restrictions may preclude awards or reimbursements to certain applicants or for certain proposed activities and expenditures.

i. Ineligible Purposes

Grant funds cannot be used for:

a. Preparation of the grant application; payment of any finder's fees or incentives for assisting in the preparation or submission of an application;

b. Purchases of fuel or payment of utility bills;

c. Payment of applicant's planning and administrative costs that exceed 4 percent of the grant award;

d. Routine maintenance or other operating costs;

e. Purchase of equipment, structures, or real estate not directly associated with provision of residential energy services;

f. Project construction costs incurred prior to the date of the grant award, except as provided in 7 CFR 1709.11(d);

g. Costs of project development and feasibility analyses exceeding 10 percent of total project costs;

h. Projects that primarily or only consist of educational, outreach, and audit or assessment activities and do not include a substantial investment in physical infrastructure or energy saving improvements;

i. Projects that primarily benefit a single household or business;

j. Projects that primarily benefit areas outside of eligible communities;

k. Research, development, demonstration, or commercialization activities;

l. Refinancing or repayment of the applicant's outstanding loans or loan guarantees under the Rural Electrification Act of 1936, as amended (7 U.S.C. 901 et seq.);

m. Funding of political activities;

n. Payment of any judgment or debt owed to the United States; or

o. Providing any share or benefit to a member of Congress except as provided in 7 CFR 1709.20.

In addition to the foregoing ineligible purposes, RUS may refuse to provide an award or reimbursement where the selected applicant has taken actions in violation of restrictions on certain project activities prior to completion of pre-award environmental review. See Part F, Section 2(i) of this notice and 7 CFR part 1970, or its successor.

ii. Limits on Indirect Charges and Markups

The program statute expressly caps soft costs such as planning studies and administrative expenditures at 4% of the grant amount. The program regulation expressly states that development fees are not an eligible purpose. The legislative history for this program is clear that program dollars are for the primary benefit of the ultimate beneficiaries of the program. That said, the Agency has observed that equipment markups, project and grant management fees, indirect costs and other soft costs to be paid to third party participants are not identified as such in the standard form SF-424B as is typically required in applying for a Federal grant award. The details behind these SF-424B budget categories often become apparent only when the grantee is submitting an updated budget as a selected finalist or supporting documents for each draw request. This program enjoys a diversity of program applicants and developers. Some are institutional, others are more entrepreneurial, such as outside engineering firms who oversee and manage projects in addition to providing design services. Some of these program participants typically expect that a percentage of each grant will fund indirect overhead, others may levy surcharges on equipment purchased for the project, and some may charge fixed or variable project management fees. These arrangements result in less grant budget dollars being spent directly for the benefit of the ultimate project beneficiaries.

The agency recognizes that the program and ultimate beneficiaries are enriched by the diversity of project sponsors, and that these parties are not expected to work for free. Nevertheless, applicants are put on notice that the agency does not expect to fund soft costs of this nature that exceed the following parameters:

Indirect overhead charges may not exceed 4% (this is differentiated from the 4% discussed elsewhere that relates to planning and administrative costs that are directly charged to the project.)

Equipment markups may not exceed 10% inclusive of any exclusive distribution rights and may not be levied unless the service provider provides purchase credit to bridge receipt of grant disbursements.

Project management services may not exceed the lower of 8% of the grant or the actual cost of management services calculated as a function of time and hourly pricing.

Engineering design fees may not exceed 10%.

Regardless of the labels attached to costs of this nature, the agency would expect the totality of such costs not to exceed 30% of the grant budget and may be expected to exercise its discretion not to fund anything that is not disclosed and approved in advance. The standard language in the form of grant agreement calls for an updated budget and implementation plan to be approved by the agency as a condition to the first advance of grant funds. The budget submitted as part of the application is not binding on the agency.

7. Other Submission Requirements

Grant applications may be submitted on paper or electronically.

i. Paper Applications

Paper applications must follow the format instructions in Part D, Section 2(ii) above. A completed paper application package must contain all required parts in the order indicated in the above Section 2 “Content and Form of Application Submission” and Table 2. The paper application package must include one original application with original signatures on all forms and certifications and two complete copies.

Paper applications must be postmarked and mailed, shipped, or sent overnight to the address provided at the top of this notice under ADDRESSES no later than the deadline published at the top of this notice under DATES.

ii. Electronic Applications

Electronic applications must follow formatting directions, including acceptable file attachment types specified on Grants.gov. Failure to follow the special instructions for electronic applications and Grants.gov guidance for attachments may result in an unreadable or incomplete application which will be rejected.

Electronic applications must also contain all required parts in the order indicated in the above Part D, Section 2 “Content and Form of Application Submission” and Table 2.

RUS will not accept applications via fax or electronic mail submissions. Electronic applications must be submitted through Grants.gov on or before the deadline published at the top of this notice under DATES.

Supplemental information relating to electronic submissions is provided below.

a. Electronic Application materials for the High Energy Cost Grant Program notice can be found by searching under Funding Opportunity Number: RD-RUS-HECG17 or Catalog of Federal Domestic Assistance (CFDA) Number No. 10.859. In addition to the Grants.gov mandatory forms, applicants must download, complete, and attach specific USDA and High Energy Cost Grant instructions, forms, and certifications to submit a complete electronic application package. Additional forms to be downloaded, completed, and uploaded to the Grants.gov application package include: The RUS “Certification Regarding Debarment, Suspension and Other Responsibility Matter—Primary Covered Transactions,” Form AD-3030 “Representations Regarding Felony Conviction and Tax Delinquent Status for Corporate Applicants” (for corporate applicants only), and the RUS Environmental Questionnaire. Electronic submissions that do not contain these required forms will be rejected as incomplete.

b. Credentials and Authorizations for Electronic Applications

I. System for Award Management

All applicants must register with the System for Award Management. Submitting an application through Grants.gov requires that your organization list in the System for Award Management (SAM) (formerly Central Contractor Registry, CCR). The Agency strongly recommends that you obtain your organization's DUNS number and SAM listing well in advance of the deadline specified in this notice. See https://www.sam.gov for more information on SAM and to register.

II. Credentialing and Authorization of Applicants

Grants.gov will also require some credentialing and online authentication procedures before you can submit an application. These procedures may take several business days to complete, further emphasizing the need for early action by applicants to complete the sign-up, credentialing and authorization procedures at Grants.gov before you submit an application at that Web site.

III. Necessity for Updates

Some or all of the SAM and Grants.gov registration, credentialing and authorizations require updates. If you have previously registered at Grants.gov to submit applications electronically, please ensure that your registration, credentialing and authorizations are up to date well in advance of the grant application deadline.

c. Difficulties in Submitting Electronic Applications

RUS encourages applicants who wish to apply through Grants.gov to submit their applications in advance of the deadlines.

If a system problem occurs or you have technical difficulties with an electronic application, please use the customer support resources available at the Grants.gov Web site.

In case of an electronic filing difficulty that cannot be resolved, applicants may download application materials and complete forms online through Grants.gov without completing the Grants.gov registration requirements. Application materials prepared online may be printed and submitted in paper to RUS as detailed above.

E. Application Review Information

This section describes the process and application review criteria that the RUS will use to evaluate the eligibility and merit of the applications packages submitted. This notice establishes the criteria and weights to be used and the evaluation process as provided by program regulations at 7 CFR part 1709.

1. Criteria

The Administrator of RUS has established the merit selection and priority consideration criteria for evaluating and scoring the applications submitted under this notice pursuant to program regulations at 7 CFR 1709.102 and 1709.123. The criteria set forth below will be used by one or more rating panels to be selected by the Assistant Administrator, Electric Programs. Additional information on how scoring criteria will be applied can be found in the 2017 Application Guide.

The maximum number of points to be awarded is 100. The maximum points available under project design and technical merit criteria are 65. The maximum number of points to be awarded under priority considerations that support USDA and RUS program priorities is 35.

Table 3 shows the selection criteria and weights that will be used in scoring the 2017 applications:

Table 3—Project Merit and Priority Consideration Criteria for 2017 NOSA
| Maximum points
Project Design and Technical Merit (up to 65 Points)
Assessment of Community Needs | 15
Project Design, Technical Feasibility and Responsiveness to Community Needs | 10
Management Plan | 10
Organizational Experience | 5
Key Staff Experience | 5
Project Goals, Objectives and Performance Measures | 3
Project Reporting Plan | 2
Project Budget, Financial Feasibility and matching contributions | 10
State, local, or tribal rural development initiatives | 5
Priority Considerations (up to 35 points)
High Poverty Areas Priority | 10
Rurality (Population) | 10
(A) 50 States and Puerto Rico:
1. 2,500 or less, 10 points;
2. Between 2,501 and 5,000, inclusive, 7 points;
3. Between 5,001 and 10,000, inclusive, 5 points;
4. Between 10,001 and 20,000, inclusive, 3 points; and
5. Above 20,000, 0 points.
(B) Virgin Islands and Pacific Insular Areas, 10 points.
Waste heat recovery projects that incorporate commercially proven technology | 5
-OR-
Energy efficiency projects that result in no less than a 25% increase in energy efficiency for generation assets, which may include projects that repower aging diesel plants.
Extraordinary circumstances or conditions | 5
SUTA Applications | 5
Total Points | 100

i. Project Design and Technical Merit Criteria (Up to 65 Points Total)

Reviewers will consider the soundness of the applicant's analysis of community needs and benefits, the adequacy of the proposed project plan, the technical feasibility of the project, the adequacy of financial and other resources, the competence and experience of the applicant and its team, project goals and objectives, and performance measures. Project proposals will be evaluated on how well the proposal addresses application content requirements and evaluation criteria and how well the application compares to other applications. A total of 65 points may be awarded under the following criteria.

a. Assessment of Community Needs (Up to 15 Points)

Under this criterion, reviewers will consider the applicant's assessment of community needs and how the grant project addresses those needs and how the severity of identified needs compares to other applications. Reviewers will consider the identification and documentation of eligible communities, their populations, and assessment of community energy needs targeted by the grant project. Information on the severity of physical and economic challenges affecting eligible communities will be considered. Reviewers will weigh: (1) The applicant's analysis of community energy challenges and (2) why the applicant's proposal presents a greater need for Federal assistance than other competing applications. In assessing the applicant's demonstration of community needs, the rating panel will consider information in the narrative proposal addressing the following:

I. The burden placed on the community and individual households by extremely high energy costs. This burden may be evidenced by such quantitative measures as, for example, total energy expenditures, per unit energy costs, energy cost intensity for occupied space, or energy costs as a share of average household income, and persistence of extremely high energy costs compared to national or statewide averages;

II. The hardships created by limited access to reliable and affordable energy services;

III. The availability of other resources to support or supplement the proposed grant funding; and

IV. Indications of community support for the proposed project solution to their energy challenges.

b. Project Design, Technical Feasibility and Responsiveness to Community Needs. (Up to 10 Points)

Reviewers will assess the technical and economic feasibility of the project and how well its goals and objectives address the challenges of the extremely high energy cost community. The panel will review the proposed design, construction, equipment, and materials for the community energy facilities in establishing technical feasibility. Reviewers may propose additional conditions on the grant award to assure that the project is technically sound. Reviewers will consider the adequacy of the applicant's budget and resources to carry out the project as proposed and how the applicant proposes to manage available resources such as other grants, program income, and any other financing sources to maintain and operate a financially viable project once the grant period has ended. Reviewers may give higher scores to projects that are substantially ready to proceed with construction or implementation than to those that are early in the project development process.

In this section, the applicant will be awarded points on the technological design of the project. The applicant must provide a narrative description of the project including a proposed scope of work identifying major tasks and proposed schedules for task completion, a detailed description of the equipment, facilities and associated activities to be financed with grant funds, the location of the eligible extremely high energy cost communities to be served, and an estimate of the overall duration of the project. The Project Design description should be sufficiently detailed to support a finding of technical feasibility. Proposed projects involving construction, repair, replacement, or improvement of electric generation, transmission, and distribution facilities must generally be consistent with the standards and requirements for projects financed with loans and loan guarantees under the RE Act as set forth in the Agency's Electric Programs Regulations and Bulletins and may reference these requirements.

C. Management Plan (Up to 10 Points)

Reviewers will assess the adequacy of the proposed management plan against the content requirements in this notice and in comparison to the quality of other applications received. Applicants should take care to address all the required content materials. Points will be awarded for robust management plans, and realistic succinct schedules. If the applicant proposes to secure equipment, design, construction, or other services from non-affiliated entities, the applicant must briefly describe how it plans to procure and/or contract for such equipment or services consistent with Federal requirements. Reviewers will award the highest points to applications that fully include all required information and support a finding that the combination of management team's experience, financial management capabilities, resources and project structure will enable successful completion of the project.

d. Organizational Experience (Up to 5 Points)

Reviewers will assess the applicant's demonstrated experience in successfully administering and carrying out projects comparable to the grant proposal. In lieu of direct experience, reviewers will consider efforts applicant has taken to secure a capacity to provide energy services in rural areas. The Agency will consider the experience of the project team and the effectiveness of the program design in compensating for lack of extensive experience. If the applicant has received any HECG funding or other Federal funding, a detailed description of past performance is required in this section. Points will be awarded to organizations with proven track records or that have established a management structure and team with capacity and experience to carry out the project. Points will be awarded based on how well the applicant addressed the content requirements of this notice, the quality of the proposed project organizational capacity and how the proposal compares with other applications.

e. Key Staff Experience (Up to 5 Points)

Reviewers will assess the quality and capacity of the project team to carry out the proposal. Reviewers will consider whether the key project staff members possess demonstrated experience in successfully administering and carrying out projects that are comparable to the grant proposal. Reviewers may consider whether the project team includes staff or other identified consultants or contractors needed to successfully complete the project. If the applicant proposes to use affiliated entities, contractors, or subcontractors to provide services funded under the grant, reviewers will consider the identities, relationship, qualifications, and experience of these affiliated entities. Points will be awarded based on how well the applicant addressed the requirements in this notice and how the applicant's proposal compares to other applications.

f. Project Goals, Objectives and Performance Measures (Up to 3 Points)

Applicants must clearly identify project goals, objectives and performance measures to track the progress and success of their proposed project. These goals and performance measures must be quantitative and empirically verifiable. These performance measures will be incorporated in the grant agreement under ongoing reporting requirements and used, together with other such data, to assess the overall benefits achieved as a result of the grant award. Examples of quantitative and verifiable results include but are not limited to gallons of diesel fuel saved annually, together with the related (quantified) emission reductions, annual reductions in the typical household electric bill within the community or annual fuel expense realized by the utility serving the community. Such measures may also include projections of avoided costs achieved as a result of the project. Qualitative descriptions of the benefits to be achieved which are not empirical in nature will not qualify for these points. No points will be awarded for this criteria if the application fails to identify quantitative, empirically verifiable performance measures for the proposed project. In the event a project proposes to serve previously unserved beneficiaries, the project performance measures should be quantitative in nature as well. Reviewers will assess the applicant's plan to evaluate and report on the success and cost-effectiveness of financed activities. Reviewers will also assess whether applicant's proposed measures provide a quantitative basis for tracking project success and whether the application provides documentation or references to support its statements about cost-effectiveness savings and improved services. Reviewers will award points based on how well the applicant meets the requirements of the notice, the effectiveness of the proposed measures to monitor performance, and how the application compares against performance objectives incorporated in other proposals.

g. Project Reporting Plan (Up to 2 Points)

Reviewers will consider applicant's description of the reporting plan and how it contributes to tracking progress and performance and the consequences if project falls behind schedule. Reviewers will assess points based on the adequacy of the plan and how well it compares to other applications.

h. Project Budget, Financial Feasibility and Matching Contributions (Up to 10 Points)

Reviewers will consider whether applicant has fully responded to requirements of this notice and whether the narrative, forms and exhibits provide sufficient information to assess the adequacy of the project budget and the financial feasibility of the project.

The budget materials must document that planned administrative and other expenses of the project sponsor that are not directly related to performance of the grant will not total more than 4 percent of grant funds. The application must also identify the source and amount of any other Federal or non-Federal contributions of funds or services that will be used to support completion of the proposed project. Points will be awarded for completeness, realistic budget costs, and feasibility. Reviewers may consider total grant funds requested as a share of total project costs in assessing feasibility. All matching contributions must be clearly identified. No additional points will be awarded for matching contribution. Reviewers will consider them in assessing feasibility and commitment to completing the project. Reviewers will score the proposal based on how well the applicant's budget submission fully complies with requirements of the notice and whether project resources, including the grant request and identified matching contributions, are adequate to complete the project as proposed. Reviewers will also assess how well the applicant's proposal compared with other applications.

i. State, Local, or Tribal Rural Development Initiatives (Up to 5 Points)

The reviewing panel will assess how effectively the proposed project is coordinated with State rural development initiatives, if any, and is consistent with and supports these efforts. [Note: The term “State rural development initiatives” refers to state or tribal programs and not to USDA Rural Development programs.] The RUS will consider the documentation submitted for coordination efforts, community support and matching contributions, and State or local government recommendations. Applicants should identify the extent to which the project is dependent on or tied to other rural development initiatives, funding, and approvals. Applicants are advised that they should address this criterion explicitly even if only to report that the project is not coordinated with or supporting a State rural development initiative. Failure to address this criterion will result in zero points awarded.

ii. Priority Considerations (Up to 35 Points Total)

In addition to the points awarded for project design and technical merit, all proposals will be reviewed and awarded additional points based on certain characteristics of the project or the target community. USDA Rural Development Mission Area policies generally encourage agencies to give priority in their programs to rural areas of greatest need and to support other Federal policy initiatives. In furtherance of these policies, RUS will award additional points for the priorities identified in this notice. The priority criteria and point scores used in this notice are consistent with the program regulations in 7 CFR part 1709. The Agency will give priority consideration to areas suffering high poverty, smaller rural and remote communities. Projects serving communities experiencing extraordinary circumstances affecting their ability to provide energy services may also enjoy priority points. Priority points are also available for applications that the Administrator has accepted for consideration under Substantially Underserved Trust Area regulations at 7 CFR part 1700, subpart D. A maximum of 35 total points may be awarded under the following priority criteria:

a. High Poverty Areas (15 Points)

USDA Rural Development is committed to reducing the impacts of high and persistent poverty in rural communities. The economic hardship of extensive and persistent poverty exacerbates the impacts of extremely high energy costs on families and businesses and hampers the community's ability to meet its energy needs. In support of this USDA initiative, RUS will award 15 priority points for projects that serve communities in counties that are classified as High Poverty or Persistent Poverty by the USDA Economic Research Service “Geography of Poverty” Web page (http://www.ers.usda.gov/topics/rural-economy-population/rural-poverty-well-being/geography-of-poverty.aspx) or that are located in a county with at least one census tract with a poverty rate of 20 percent or more using data from the American Community Survey (ACS) that can easily be accessed through the Census Bureau American Fact Finder Web page (http://factfinder.census.gov/faces/nav/jsf/pages/index.xhtml). Applicants may use other population and income data from the U.S. Census, state, or tribal sources if the ACS does not contain information for their community or project area. In the absence of accurate community information, the 2017 Application Guide provides additional details on high poverty areas. Reviewers will award 15 points for any application that serves one or more high poverty areas and that has required supporting population information.

Note on Alternative Economic and Population Data for Eligible Territories and Insular Areas: RUS recognizes that comparable economic and household income information may not be available for eligible areas that are not States. Applicants from these areas should provide any public information that is readily available on territorial or national median household income and local community economic characteristics and other indication of economic challenge posed by extremely high energy costs. Applications from these areas will be scored based on the provided data.

b. Rurality (Up to 10 Points)

Consistent with the USDA Rural Development policy to target resources to smaller rural communities with significant needs and recognizing that smaller and remote communities are often comparatively disadvantaged in seeking assistance, RUS has established a sliding scale for awarding points based on population. RUS has also determined to award the full 10 points to applications from the Virgin Islands and eligible Pacific Insular areas. Reviewers will award additional points based on the rurality (as measured by population) of the project communities to be served with grant funds under one of two options below.

I. Applications From the Fifty States and Puerto Rico

Applications from any one of the fifty States or Puerto Rico, will be scored based on the population of the largest incorporated cities, towns, or villages, or census designated places included within the grant's proposed project area. Points will be awarded based on the population of the largest target community within the proposed target area as follows:

A. 2,500 or less, 10 points;

B. Between 2,501 and 5,000, inclusive, 7 points;

C. Between 5,001 and 10,000, inclusive, 5 points;

D. Between 10,001 and 20,000, inclusive, 3 points; and

E. Above 20,000, 0 points.

Applicants must use the latest available population figures from the 2010 U.S. Census available at American Fact Finder (http://factfinder.census.gov/faces/nav/jsf/pages/index.xhtml) for every incorporated city, town, or village, or Census designated place included in the project community area.

II. Applications From the Virgin Islands and Pacific Insular Areas (10 Points)

The priority scoring criteria are intended to carry out Rural Development policy to give priority to areas most challenged by extremely high energy costs and those without access to substantial alternative economic and institutional resources to address these challenges, particularly rural, remote, and substantially-underserved areas. U.S. Census population and economic data have been used as proxy measures for rurality, remoteness, and economic challenges. It has become evident that comparable, up to date U.S. Census population and economic information are not easily available or are unavailable for communities in the Virgin Islands or Pacific insular areas. After consideration, RUS has decided to adopt an alternative methodology for scoring eligible applications from these areas. RUS will assign a rurality score of “10” to applications from the Virgin Islands and eligible insular areas in the Pacific. This policy will place these applications on an equal footing with competing applications from other rural and remote areas.

c. Waste Heat Recovery Projects or Energy Efficiency Projects (Up to 5 Points)

Reviewers will award up to 5 points for waste heat recovery projects where the project budget does not include the cost of new or re-powered generation. Waste heat recovery project costs may include duct and other delivery infrastructure up to but not within a structure wherein the recovered heat will be used. Waste heat recovery projects must incorporate commercially proven technology.

Energy efficiency projects are also eligible for priority points, but only those which achieve the 25% improvement threshold set by the agency. The purpose of this threshold is to reserve priority points for projects that meet a reasonably high bar rather than award points to project that achieve only nominal improvements. In order to receive these priority points the project scope must demonstrate that the efficiencies achieved at the point of generation will not be subsequently dissipated in distribution; such projects may well include distribution and weatherization improvements to assure the reviewers that efficiency improvements will be realized at the retail level.

A project that proposes to repower an aging diesel plant with a new generator that incorporates waste heat recovery would receive 5 points. The purpose of this priority category is to allow priority points for one or another priority, but not allow double points for projects that combine both.

d. Extraordinary Conditions or Circumstances (Up to 5 Points)

The Administrator in his sole discretion has decided to provide up to 5 points for project applications for communities that exhibit one or more extraordinary conditions or circumstances that affect the community's ability to provide energy services or to make investments to reduce energy use or costs. This priority includes considerations that were recognized separately under prior notices as well as allowing for recognition of other extraordinary circumstances adversely impacting eligible high energy cost communities. The 2017 Application Guide has more detail on situations that may qualify an application for priority points under this criterion. Reviewers may award up to a total of 5 points, based on their assessment of the hardship presented, for the following extraordinary circumstances:

I. Disaster

The community has suffered a natural or other disaster that affected critical community energy facilities. The application must provide details of when the disaster occurred, the extent of damage, and available resources for disaster recovery, including assistance from other agencies.

II. Unserved Energy Needs

Consistent with the purposes of the RE Act, projects that meet unserved or underserved energy needs may be awarded points under this criterion. Examples of proposals that may qualify under this priority include projects that extend or improve electric or other energy services to communities and customers that do not have reliable centralized or commercial service or where many homes remain without such service because the costs are unaffordable.

III. Imminent Hazard

Reviewers may award priority consideration for any applications including a project to correct a condition posing an imminent hazard to public safety, welfare, the environment, or to a critical community or residential energy facility. Examples include community energy facilities in immediate danger of failure because of deteriorated condition, capacity limitations, damage from natural disasters or accidents, or other conditions where impending failure of existing facilities or absence of energy facilities creates a substantial threat to public health or safety, or to the environment.

IV. Extreme Economic Hardship

Reviewers may award additional priority points for projects serving communities with conditions creating a severe economic hardship to the community or the energy provider. The hardship must be adequately described and documented by the applicant. Examples include but are not limited to natural disasters, financially distressed local industry, and loss of major local employer, persistent poverty, outmigration, or other conditions adversely affecting the local economy, or contributing to unserved or underserved energy infrastructure needs that affect the economic health of the community. Applications from eligible areas that are not States will be scored under this alternative using information provided in the Application. The rating panel may assign points under this criterion, in lieu of awarding points based on the percentage of median household income. Award of priority points under this criterion is in addition to any that may be awarded for high poverty counties. Applicants may qualify under this criterion that do not meet the USDA Rural Development high poverty counties priority above.

V. Substantially Underserved Trust Areas (5 Points)

Under SUTA regulations at 7 CFR part 1700, subpart D, eligible entities may request special consideration for applications for communities in trust areas that lack adequate levels or quality of service and are in high need of grant assistance. The Administrator, in his sole discretion, has determined to award 5 points to any application from an eligible SUTA entity for projects serving eligible areas that are also eligible for the High Energy Cost Grant Program. To receive these points, the entity must submit a separate application and request for consideration under SUTA as provided in Part C, Section 1(ii) of this notice above and program regulations at 7 CFR part 1700, subpart D. The decision to provide SUTA consideration to an eligible application is solely at the discretion of the Administrator.

Reviewers will award 5 points to any project application that has been accepted for consideration under SUTA.

iii. Cost Sharing

There is no requirement for matching contributions under the High Energy Cost Grant Program. The Agency has determined not to make cost contributions a separate scoring criterion. Consideration of matching contributions may be considered by the rating panel in assessing the financial capacity to complete the project, budget, and rural development initiative criteria.

2. Review and Selection Process

i. Determining Eligibility

RUS will review all application packages received to determine if they were timely submitted on or before the deadline published at the top of this Notice under DATES. All timely received application packages will be reviewed for eligibility and completeness. Project proposals that contain all required application package content in acceptable format and that meet eligibility criteria will be accepted for consideration. Application packages that are late, incomplete or ineligible will be rejected.

Applicants will be notified if they were found to be ineligible when selected finalists are announced. The determinations on timeliness, completeness and eligibility will be final. The rejection notice will provide information on any appeals that may apply with respect to rejections based on eligibility.

After the application closing date, RUS will not consider any unsolicited information from the applicant. The Agency may contact the applicant for additional information or to clarify statements in the application required to establish applicant or community eligibility and completeness. RUS will not accept or solicit any additional information relating to the technical merits and feasibility of the grant proposal after the application closing date.

The Agency will look only at the three-page narrative in Part B of the application package during the initial screening process to determine if the applicant, community and project meet program eligibility requirements established in this notice and program regulations.

ii. Evaluation and Scoring of Eligible Applications

The Agency will use one or more rating panels composed of Agency employees to review and score eligible applications. The panel will evaluate and score the applications using the selection criteria and weights established in this notice along with the additional information provided in the 2017 Application Guide. As part of the proposal review and ranking process, panel members may make comments and recommendations for appropriate conditions on grant awards to promote successful performance of the grant or to assure compliance with other Federal requirements. The decision to include panel recommendations on grant conditions in any grant award will be at the sole discretion of the RUS Administrator.

The rating panel members' individual scores for each application will be consolidated with those from other members to create a total score for each application. The panel will forward their individual scores and the ranked list of projects to the Assistant Administrator, Electric Programs, for review of consistency with this notice and program regulations. The Assistant Administrator may refer the ranked list or individual project scores back to the rating panel or to an individual member to correct any apparent error or inconsistency (such as awarding a higher number of points than allowed) or for questions about scoring of individual projects. The Assistant Administrator will then prepare a selection memo for the Administrator along with a list of ranked projects.

iii. Review and Selection of Applications

The RUS Administrator will review the application rankings and recommendations of the rating panel. The Administrator may return any application to the rating panel with written instruction for reconsideration if, in his sole discretion, he finds that the scoring of an application is inconsistent with this notice and the directions provided to the rating panel. Following any adjustments to the project in ranking, as a result of reconsideration, the Administrator will select finalists for grant awards. The Administrator will consider projects in rank order, taking into account the applications, the rankings, comments, and recommendations of the rating panel, and other pertinent information, including availability of funds. The Administrator may fund grant requests in rank order to the extent of available funds. Upon consideration of panel recommendations and availability of funds, the Administrator may, in his sole discretion, decide to offer an award of less than the full amount of grant requested by an applicant. If the applicant declines an award, the offer will be withdrawn. If at any point in the selection process sufficient funds are not available to fund the next ranked project, the Administrator may, in his sole discretion, offer a partial award to the next project, or skip over that project to the next ranking project that can be supported with available funding. The Administrator may in his sole discretion, make additional awards to unfunded applications in rank order if additional funds become available.

Because of the limited amount of funds available, no applicant or project will receive more than one award under this notice. If two projects from the same applicant score high enough to potentially receive funding, the Administrator will select the project with the higher score.

The Administrator may decide based on the recommendations of the rating panel, or in his sole discretion, that a grant award should be made contingent upon the applicant satisfying certain conditions. For example, RUS will not obligate funding for a selected project—such as projects requiring extensive environmental review and mitigation, preparation of detailed site specific engineering studies and designs, or requiring local permitting, or availability of supplemental financing—until any such additional conditions are satisfied and adequate funds remain available. In the event that any selected finalist fails to comply with all pre-award conditions within the deadlines set by RUS, the award selection will be withdrawn.

3. Notice to Applicants Regarding Certain Grant Awards

This notice may result in awards where the total Federal share will be greater than the simplified acquisition threshold (See 2 CFR 200.88) on any Federal award under this notice over the period of performance (see 2 CFR 200.88). Therefore, applicants are advised that:

(i) RUS, prior to making a Federal award with a total amount of Federal share greater than the simplified acquisition threshold, is required to review and consider any information about the applicant that is in the designated integrity and performance system accessible through SAM (currently FAPIIS) (see 41 U.S.C. 2313);

(ii) An applicant, at its option, may review information in the designated integrity and performance systems accessible through SAM and comment on any information about itself that a Federal awarding agency previously entered and is currently in the designated integrity and performance system accessible through SAM; and

(iii) RUS will consider any comments by the applicant, in addition to the other information in the designated integrity and performance system, in making a judgment about the applicant's integrity, business ethics, and record of performance under Federal awards when completing the review of risk posed by applicants as described in 2 CFR part 200.

4. Anticipated Announcement and Federal Award Dates

After the Administrator's decision, RUS will notify successful applicants that they have been selected as finalists for a grant award. This selection is subject to continued availability of funds and compliance with all post-award requirements including but not limited to completion of any additional environmental reviews and execution of a grant agreement satisfactory to RUS. This selection does not bind RUS to make a final grant award. Only an RUS grant agreement executed by the Administrator will constitute a binding obligation and commitment of Federal funds. Grant funds will not be awarded or disbursed until all requirements have been satisfied and are contingent on the continued availability of funds at the time of the award. RUS will advise selected applicants of any additional requirements or conditions.

RUS anticipates that award decisions will be made within 6 months of the closing date, depending on availability of funds. Final selection announcements will be posted on our Web site (http://www.rd.usda.gov/programs-services/high-energy-cost-grants).

5. Appeals

As discussed above, RUS will reject any application that in its sole discretion is not complete or that does not demonstrate that the applicant, community or project is eligible under the requirements of this NOSA and applicable program regulations. Applicants will be notified in writing of RUS's decision. Applicants may appeal the eligibility rejection pursuant to program regulations on appeals at 7 CFR 1709.6 for the high energy cost grant program. Applicants must appeal in writing to the RUS Administrator within 10 days after the applicant is notified of the determination to reject the application. The appeal must state the basis for the appeal. Appeals must be directed to the Administrator, Rural Utilities Service, United States Department of Agriculture, 1400 Independence Ave. SW., STOP 1500, Washington, DC 20250-1500. The Administrator will review the appeal to determine whether to sustain, reverse, or modify the original determination by the Assistant Administrator. The Administrator's decision shall be final. A written copy of the Administrator's decision will be furnished promptly to the applicant.

F. Federal Award Administration

1. Federal Award Notices

RUS will notify all applicants in writing as to the outcome of their application. Successful applicants will be advised in writing that they are a selected finalist. The receipt of a finalist selection letter is not a binding award of Federal funds. The selection letter does not authorize the applicant to commence performance under the award. The Agency will advise the applicant of any additional requirements or pre-award conditions. After the pre-award conditions are satisfied, the Agency will send a conditions letter with all project-specific terms and conditions to be included in the grant agreement. After the applicant indicates acceptance of these terms and conditions the Administrator will approve the award and execute the grant agreement.

Successful applicants will be required to sign a grant agreement acceptable to the Agency and complete additional grant forms and certifications required by USDA as part of the process.

An executed grant agreement and satisfaction of all conditions precedent to funding are a prerequisite to any advance of funds.

2. Administrative and National Policy Requirements.

i. Environmental Review and Restriction on Certain Activities

Following the announcement, selected applicants will be required to submit the appropriate environmental review documentation, as outlined in the RUS environmental questionnaire and to prepare and submit any other environmental impact analyses required by RUS Environmental Policies and Procedures (7 CFR part 1970). Successful applicants will be advised whether additional environmental review requirements apply to their proposals. These reviews may result in additional project conditions that RUS will include in the grant agreement. Also, as a condition of any award, applicants must also agree to comply with conditions imposed on the grant project by any other Federal, State, or Tribal environmental laws and regulations, licenses, or permits.

In accordance with 7 CFR part 1970, applicants are restricted from taking actions that may have an adverse environmental impact or limit the choice of alternatives being considered until the environmental review process is concluded. If an applicant takes such actions, RUS will not award or advance grant funds. If the proposed grant project involves physical development activities or property acquisition, the applicant is generally prohibited from acquiring, rehabilitating, converting, leasing, repairing or constructing property or facilities, or committing or expending RUS or non-RUS funds for proposed grant activities until RUS has completed any environmental review in accordance with 7 CFR part 1970 or its successor, determined that no environmental review is required.

ii. Other Federal Requirements

High Energy Cost Grant Program Regulations (7 CFR part 1709), the requirements of this notice, the 2017 Application Guide and accompanying materials establish the appropriate administrative and national policy requirements for awards under this program. These requirements include but are not limited to:

a. Executing a Grant Agreement acceptable to the Agency;

b. Signing Form AD-3031 (“Assurance Regarding Felony Conviction or Tax Delinquent Status for Corporate Applicants”) (for corporate applicants only);

c. Using the forms specified in the Grant Agreement for requesting advances and reimbursements and submitting and maintaining supporting documentation of expenditures and receipts for use of funds awarded under this grant;

d. Providing quarterly project performance activity reports with required forms specified in the grant agreement until the expiration of the project term;

e. Ensuring that records are maintained to document all grant supported activities and expenditures and matching contributions;

f. Providing a final project performance report after completion of construction and one year's worth of operation;

g. Complying with policies, guidance, and requirements as described in the following applicable Federal regulations, and any successor regulations:

• 2 CFR part 200, Office of Management and Budget, Uniform Administrative Requirements, Cost Principles, and Audit Requirements for Federal Awards;

• 2 CFR part 400 United States Department of Agriculture, Uniform Administrative Requirements, Cost Principles, and Audit Requirements for Federal Awards;

• 2 CFR part 180 (Office of Management and Budget Government-wide Debarment and Suspension (Non procurement));

• 2 CFR part 416 (United States Department of Agriculture, General Program Administrative Regulations for Grants and Cooperative Agreements to State and Local Governments);

• 2 CFR part 417 (United States Department of Agriculture, Government-wide debarment and suspension (non-procurement));

• 2 CFR part 418 (United States Department of Agriculture, New restrictions on Lobbying);

• 2 CFR part 421 (United States Department of Agriculture, Government-wide requirements for drug-free workplace (grants));

• 7 CFR part 15, subpart A United States Department of Agriculture, Nondiscrimination in Federally Assisted Programs of the Department of Agriculture—Effectuation of Title VI of the Civil Rights Act of 1964 (as more fully elaborated below);

• 7 CFR part 1767 Rural Utilities Service (Accounting Requirements for RUS Electric Borrowers); and

• 7 CFR part 1773 Rural Utilities Service (Policy on Audits of RUS Borrowers); and

h. Civil Rights compliance includes but is not limited to the following:

• Assurance Agreement. Each prospective recipient must sign RUS Form 266, Assurance Agreement, which assures USDA that the recipient is in compliance with Title VI of the Civil Rights Act of 1964, 7 CFR part 15 and other Agency regulations; and that no person will be discriminated against based on race, color or national origin, in regard to any program or activity for which the recipient receives Federal financial assistance; and that nondiscrimination statements are in advertisements and brochures.

• Collect and maintain data provided by ultimate recipients on race, sex, and national origin and ensure that ultimate recipients collect and maintain this data. Race and ethnicity data will be collect in accordance with OMB Federal Register notice, “Revisions to the Standards for the Classification of Federal Data on Race and Ethnicity” (published October 30, 1997 at 62 FR 58782). Sex data will be collected in accordance with Title IX of the Education Amendments of 1972. These items should not be submitted with the application but should be available upon request by the Agency.

• The applicant and the ultimate recipient must comply with Title VI of the Civil Rights Act of 1964, Title IX of the Education Amendments of 1972, the Americans with Disabilities Act (ADA), Section 504 of the Rehabilitation Act of 1973, the Age Discrimination Act of 1975, Executive Order 12250, and 7 CFR part 1901, subpart E.

• The applicant and the ultimate recipient must comply with Executive Order 13166 “Limited English Proficiency.” For information on limited English proficiency and agency-specific guidance, go to hhtp://www.LEP.gov.

• Construction Contract Equal Opportunity Clause. Each prospective recipient must execute Form RD 400-1 which assures USDA that the recipient will include the prescribed equal opportunity clause in construction contracts where Federal financial assistance exceeds $10,000.

Compliance with additional OMB Circulars or government-wide regulations may be specified in the grant agreement.

3. Reporting.

i. The grantee must provide periodic financial and performance reports under USDA grant regulations, program rules and the grant agreement. The grantee must submit a final project performance report. The nature and frequency of required reports is established in USDA grant regulations and the project-specific grant agreements.

ii. The applicant must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR part 170 are as follows:

a. First Tier Sub-Awards of $25,000 or more in non-Recovery Act funds (unless they are exempt under 2 CFR part 170) must be reported by the Recipient to http://www.fsrs.gov no later than the end of the month following the month the obligation was made. Please note that a consolidation of eight federal procurement systems is currently underway, including the Sub-award Reporting System (FSRS), into one system, the System for Award Management (SAM). As a result, the FSRS will soon be consolidated into and accessed through https://www.sam.gov.

b. Total Compensation of the Recipient's Executives (5 most highly compensated executives) must be reported by the Recipient (if the Recipient meets the criteria under 2 CFR part 170) to https://www.sam.gov by the end of the month following the month in which the award was made.

c. Total Compensation of the Subrecipient's Executives.

The Total Compensation of the Subrecipient's Executives (5 most highly compensated executives) must be reported by the Subrecipient (if the Subrecipient meets the criteria under 2 CFR part 170) to the Recipient by the end of the month following the month in which the sub award was made.

G. Federal Awarding Agency Contact

The RUS Contact for this grant announcement is Robin Meigel, Finance Specialist, Rural Utilities Service, Electric Programs, United States Department of Agriculture, 1400 Independence Avenue SW., STOP 1568, Room 0270-S South Building, Washington, DC 20250-1568. Telephone (202) 720-9452, Fax (202) 690-0717, email: Energy.Grants@wdc.usda.gov.

H. Other Information

1. Disclosure of Information

All material submitted by the applicant or grantee may be made available to the public in accordance with the Freedom of Information Act (5 U.S.C. 552) and USDA's implementing regulations at 7 CFR part 1.

In addition, in compliance with statutory requirements for Federal spending transparency, USDA will announce all Federal awards publicly and publish the required information on a publicly available OMB-designated government-wide Web site (at time of publication, www.USAspending.gov). (2 CFR 200.211).

2. USDA Non-Discrimination Statement

In accordance with Federal civil rights laws and U.S. Department of Agriculture (USDA) civil rights regulations and policies, the USDA, its agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by: Mail: U.S. Department of Agriculture, Office of the Assistant Secretary for Civil Rights, 1400 Independence Avenue SW., Stop 9410, Washington, DC 20250-9410; Fax: (202) 690-7442; or, Email: program.intake@usda.gov.

USDA is an equal opportunity provider, employer, and lender.

Dated: September 19, 2017.
Christopher A. McLean,
Acting Administrator, Rural Utilities Service.

[FR Doc. 2017-22042 Filed 10-11-17; 8:45 am]

BILLING CODE P